DEPARTMENT OF AGRICULTURE

Farm Service Agency

[Docket ID: FSA-2023-0013]

Information Collection Request; Online Loan Application for Direct Loan Making Program and Direct Loan Servicing

AGENCY: Farm Service Agency, USDA.

ACTION: Notice; request for comments.

SUMMARY: In accordance with the Paperwork Reduction Act (PRA) requirements, the Farm Service Agency (FSA) is requesting comments from all interested individuals and organizations on a new collection associated with the new automated FSA Online Loan Application for Direct Loan Making Program and Direct Loan Servicing—Primary. For both Direct Loan Making and Direct Loan Servicing—Primary, the collected information is used in eligibility and feasibility determinations for loan making and loan servicing actions. Future releases of the FSA Online Loan Application will provide additional functionality and components for Direct Loan Making & Direct Loan Servicing—Primary applications.

DATES: We will consider comments that we receive by September 19, 2023.

ADDRESSES: We invite you to submit comments in response to this notice. FSA prefers that the comments are submitted electronically through the Federal eRulemaking Portal, identified by docket ID No. FSA-2023-0013, go to http://www.regulations.gov and search for docket ID FSA-2023-0013. Follow the online instructions for submitting comments.

All comments received will be posted without change and made publicly available on www.regulations.gov.

FOR FURTHER INFORMATION CONTACT: For specific questions related to the information collection activities or to obtain a copy of the information collection request: For the Direct Loan Making Program please contact Matthew Christian; telephone; (423) 788-2007; email: matthew.christian@usda.gov; for Direct Loan Servicing—Primary, please contact Lee Nault, (202) 720-6834; email: lee.nault@usda.gov. Individuals who require alternative means for communication should contact the USDA Target Center at (202) 720-2600 (voice).

SUPPLEMENTARY INFORMATION:

Title: Farm Loan Programs, Direct Loan Making.

OMB Control Number: 0560-NEW.

Type of Request: New.

Abstract: FSA's Farm Loan Programs provide loans to family farmers to purchase real estate and equipment, and to finance agricultural production. FSA simplified the Direct farm loan application as a part of the efforts to conform with the Executive Order 14058, “Transforming Federal Customer Experience and Service Delivery to Rebuild Trust in Government.” The use of the hard copy form is covered in the information collection request under the OMB control number of 0560-0237; FSA reduced the number of pages required for completion of the form FSA-2001, “Request for Direct Loan Assistance” from 29 pages to 13 pages.

To further improve the customer experience and service delivery for the Farm Loan Program loan applicants, FSA is currently developing an Online Loan Application for the applicants to submit requests for Direct Loan assistance electronically. Future releases and iterations of the online application software will include expansion of functionality for direct loan making and provide ability for primary loan servicing application submission.

FSA will expect to further decrease the burden hours under the OMB Control number 0560-0237 as the functionally and use of the online application software expands, and more applicants shift away from using the hard copy application form. Due to ease of application submission, the expected number of annual respondents for all FSA-2001 submissions for loan making purposes is expected to increase by 10 percent over a 5-year average.

For the following estimated total annual burden on respondents, the formula used to calculate the total burden hour is the estimated average time per response hours multiplied by the estimated total annual responses.

Estimate of Average Time to Respond: Public reporting burden for the information collection is estimated to average per response 1.2 hours.

Type of Respondents: Individuals or households, informal entities, legal entities, businesses or other for-profit farms.

Estimated Annual Number of Respondents: 21,610.

Estimated Number of Reponses per Respondent: 1.82.

Estimated Total Annual Responses: 39,330.

Estimated Total Annual Burden on Respondents: 47,196 hours.

We are requesting comments on all aspects of this information collection to help us to:

(1) Evaluate whether the collection of information is necessary for the proper performance of the functions of FSA, including whether the information will have practical utility;

(2) Evaluate the accuracy of FSA's estimate of burden including the validity of the methodology and assumptions used;

(3) Enhance the quality, utility and clarity of the information to be collected;

(4) Minimize the burden of the collection of information on those who are to respond, including through the use of appropriate automated, electronic, mechanical, or other technological collection techniques or other forms of information technology.

All comments received in response to this notice, including names and addresses when provided, will be a matter of public record. Comments will be summarized and included in the submission for Office of Management and Budget approval.

USDA Non-Discrimination Policy

In accordance with Federal civil rights law and USDA civil rights regulations and policies, USDA, its Agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Individuals who require alternative means of communication for program information (for example, braille, large print, audiotape, American Sign Language, etc.) should contact the responsible Agency or USDA TARGET Center at (202) 720-2600 (voice and text telephone (TTY) or dial 711 for Telecommunications Relay Service (both voice and text telephone users can initiate this call from any telephone). Additionally, program information may be made available in languages other than English.

To file a program discrimination complaint, complete the USDA Program Discrimination Complaint Form, AD-3027, found online at https://www.usda.gov/oascr/how-to-file-a-program-discrimination-complaint and at any USDA office or write a letter addressed to USDA and provide in the letter all the information requested in the form. To request a copy of the complaint form, call (866) 632-9992. Submit your completed form or letter to USDA by mail to: U.S. Department of Agriculture, Office of the Assistant Secretary for Civil Rights, 1400 Independence Avenue SW, Washington, DC 20250-9410 or email: OAC@usda.gov.

USDA is an equal opportunity provider, employer, and lender.

Zach Ducheneaux,
Administrator, Farm Service Agency.

[FR Doc. 2023-15536 Filed 7-20-23; 8:45 am]

BILLING CODE 3411-E2-P